DEPARTMENT OF EDUCATION

Teacher Incentive Fund

Catalog of Federal Domestic Assistance (CFDA) Numbers: 84.385 and 84.374.

AGENCY: Office of Elementary and Secondary Education, Department of Education.

ACTION: Notice inviting applications for new awards for fiscal year (FY) 2010; correction.

SUMMARY: On May 21, 2010, the Department of Education published in the Federal Register (75 FR 28740) a notice inviting applications for new awards for FY 2010 (NIA) for the Teacher Incentive Fund. This notice makes a correction to the May 21 NIA.

FOR FURTHER INFORMATION CONTACT: April Lee, U.S. Department of Education, 400 Maryland Avenue, SW., Room 3E120, Washington, DC 20202. Telephone: (202) 205-5224, or by e-mail: TIF@ed.gov.

If you use a telecommunications device for the deaf (TDD), call the Federal Relay Service (FRS), toll free, at 1-800-877-8339.

Individuals with disabilities can obtain this document in an accessible format (e.g., braille, large print, audiotape, or computer diskette) on request to the contact listed in this section.

SUPPLEMENTARY INFORMATION:

Correction

On page 28745 of the May 21 NIA, we requested that applicants submit a short e-mail as a notice of intent to apply by June 1 to allow us to develop a more efficient process for reviewing grant applications. We incorrectly stated, however, that the “short e-mail should provide (1) the applicant organization's name and address, (2) the type of grant for which the applicant intends to apply, (3) the one absolute priority the applicant intends to address, and (4) all competitive preference priorities the applicant intends to address.” We are correcting the May 21 NIA to provide applicants with the correct information about what the notice of intent to apply should include.

On page 28745, first column, first paragraph, under the heading Notice of Intent to Apply, the third sentence is corrected to read “This short e-mail should provide the applicant organization's name and address and whether the applicant intends to apply for the Evaluation or Main TIF competition.”

Program Authority: The Departments of Labor, Health and Human Services, and Education, and Related Agencies Appropriations Act, 2008, Division G, Title III, Pub. L. 110-161; Departments of Labor, Health and Human Services, and Education, and Related Agencies Appropriations Act, 2010, Division D, Title III, Pub. L. 111-117; and the American Recovery and Reinvestment Act of 2009, Division A, Title VIII, Pub. L. 111-5.

Electronic Access to This Document

You may view this document, as well as all other Department of Education documents published in the Federal Register, in text or Adobe Portable Document Format (PDF) on the Internet at the following site: http://www.ed.gov/news/fedregister/index.html. To use PDF you must have Adobe Acrobat Reader, which is available free at this site.

Note: The official version of this document is the document published in the Federal Register. Free Internet access to the official edition of the Federal Register and the Code of Federal Regulations is available on GPO Access at: http://www.gpoaccess.gov/nara/index.html.

Dated: May 25, 2010.
Thelma Meléndez de Santa Ana,
Assistant Secretary for Elementary and Secondary Education.

[FR Doc. 2010-12949 Filed 5-27-10; 8:45 am]

BILLING CODE 4000-01-P